ENVIRONMENTAL PROTECTION AGENCY

[ER-FRL-9041-8]

Environmental Impact Statements; Notice of Availability

Responsible Agency: Office of Federal Activities, General Information (202) 564-5632 or https://www.epa.gov/ nepa/.

Weekly receipt of Environmental Impact Statements

Filed 10/08/2018 Through 10/12/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180243, Draft Supplement, USFWS, WA, Hanford Reach National Monument Rattlesnake Unit Draft Supplemental Environmental Impact Statement, Comment Period Ends: 12/03/2018, Contact: Trevor Fox 509-546-8311

EIS No. 20180245, Draft, FRA, OR, Oregon Passenger Rail Tier 1 Draft Environmental Impact Statement, Comment Period Ends: 12/18/2018, Contact: Lydia Kachadoorian 781-227-0778

EIS No. 20180246, Draft, FERC, TX, Rio Grande LNG Project, Comment Period Ends: 12/03/2018, Contact: Office of External Affairs 866-208-3372

EIS No. 20180247, Draft, USFWS, FL, Eastern Collier Multiple Species Incidental Take Permit Applications and Habitat Conservation Plan, Comment Period Ends: 12/03/2018, Contact: David Dell 404-679-7313

EIS No. 20180248, Final, USFWS, OK, Proposed Habitat Conservation Plan for the Endangered American Burying Beetle for American Electric Power in Oklahoma, Arkansas, and Texas, Review Period Ends: 11/19/2018, Contact: Seth Willey 505-248-6920

EIS No. 20180249, Draft, USACE, CA, Westminster East Garden Grove Flood Risk Management Study, Comment Period Ends: 12/03/2018, Contact: Michael Padilla 312-846-5427

Amended Notices

EIS No. 20180238, Final, UDOT, UT, S.R. 30, S.R. 23 to 1000 West, Contact: Naomi Kisen 801-965-4005 Revision to the FR Notice Published 10/12/2018; Correcting Lead Agency from FHWA to UDOT.

Dated: October 15, 2018.
Robert Tomiak,
Director, Office of Federal Activities.

[FR Doc. 2018-22745 Filed 10-18-18; 8:45 am]

BILLING CODE 6560-50-P